DEPARTMENT OF HOMELAND SECURITY

Coast Guard

33 CFR Part 117

[Docket No. USCG-2011-0079]

Drawbridge Operation Regulation; Townsend Inlet, Avalon, NJ

AGENCY: Coast Guard, DHS.

ACTION: Notice of temporary deviation from regulations.

SUMMARY: The Commander, Fifth Coast Guard District, has issued a temporary deviation from the regulations governing the operation of the Townsends Inlet Bridge across, mile 0.3, at Avalon, NJ. The deviation is necessary to facilitate the cleaning and painting of the structure. This deviation allows the bridge to remain in the closed position for the deviation period.

DATES: This deviation is effective from 5 a.m. on March 1, 2011 to 5 p.m. on April 30, 2011.

ADDRESSES: Documents mentioned in this preamble as being available in the docket are part of docket USCG-2011-0079 and are available online by going to http://www.regulations.gov, inserting USCG-2011-0079 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Terrance A. Knowles, Environmental Protection Specialist, Fifth District; Coast Guard; telephone 757-398-6587, e-mail Terrance.A.Knowles@uscg.mil. If you have questions on viewing the docket, call Renee V. Wright, Program Manager, Docket Operations, telephone 202-366-9826.

SUPPLEMENTARY INFORMATION: The Cape May County Bridge Commission (CMCBC), who owns and operates this bascule drawbridge, has requested a temporary deviation from the current operating schedule to facilitate the cleaning and painting of the bridge structure. Under the regular operating schedule required by 33 CFR 117.757, the bridge opens on signal, except from 9:15 a.m. to 2:30 p.m. on the fourth Sunday in March of every year, the draw need not open for vessels. If the fourth Sunday falls on a religious holiday, the draw need not open from 9:15 a.m. to 2:30 p.m. on the third Sunday of March of every year. From 11 p.m. on December 24 until 11 p.m. on December 25, the draw need open only if at least two hours notice is given.

The Townsend Inlet Bridge, mile 0.3, in Avalon, NJ, has a vertical clearance in the closed position of 23 feet above mean high water. Vessels that can transit under the bridge without an opening may do so at any time. Under this temporary deviation, CMCBC will maintain the bridge in the closed position to vessels beginning at 5 a.m. on March 1, 2011 until and including 5 p.m. on April 30, 2011.

In 2010, during the months of March and April, the bridge has opened for vessels 62 and 45 times, respectively. The majority of the vessels for which the bridge opened were tugs and barges being used for beach replenishment.

The Coast Guard will inform users of the waterway through our Local and Broadcast Notices to Mariners of the closure periods for the bridge so that vessels can arrange their transits to minimize any impact caused by the temporary deviation.

Vessels have two alternate routes by transiting either eight miles to the south through Hereford Inlet or eight miles to the north through Corson Inlet. The drawbridge will be able to open in the event of an emergency.

In accordance with 33 CFR 117.35(e), the drawbridge must return to its regular operating schedule immediately at the end of the designated time period. This deviation from the operating regulations is authorized under 33 CFR 117.35.

Dated: March 7, 2011.
Waverly W. Gregory, Jr.,
Chief, Bridge Administration Branch, Fifth Coast Guard District.

[FR Doc. 2011-6338 Filed 3-17-11; 8:45 am]

BILLING CODE 9110-04-P